DEPARTMENT OF AGRICULTURE

Food Safety and Inspection Service

[Docket No. 04-003N]

New Technology Website Contents

AGENCY: Food Safety and Inspection Service, USDA.

ACTION: Notice with request for comments.

SUMMARY: The Food Safety and Inspection Service is requesting comments on the types of information that it intends to post on its Web site regarding the use of new technologies in the production of meat, poultry, and egg products. Specifically, FSIS intends to post information about new technologies that are under review, or that have been reviewed, by the Agency. The Agency seeks comments about the value of the information to the public and the costs and other detrimental effects to a company if this information is made publicly available. FSIS is publishing this notice as part of its ongoing effort to increase public and industry awareness of new technologies and to foster their use by small and very small plants.

DATES: The Agency must receive comments by July 19, 2004.

ADDRESSES: Comments may be submitted by any of the following methods:

• Mail, including floppy disks or CD-ROM's, and hand-or courier-delivered items: Send to Docket Clerk, U.S. Department of Agriculture, Food Safety and Inspection Service, 300 12th Street, SW., Room 102 Cotton Annex, Washington, DC 20250.

• Federal eRulemaking Portal: Go to http://www.regulations.gov. Follow the online instructions at that site for submitting comments.

All submissions received must include the Agency name and docket number 04-003N. All comments submitted will be available for public inspection in the FSIS Docket Room at the address listed above between 8:30 a.m. and 4:30 p.m., Monday through Friday. The comments also will be posted on the Agency's Web site at http://www.fsis.usda.gov/OPPDE/rdad/FRDockets.htm.

FOR FURTHER INFORMATION CONTACT: For further information contact Bobby Palesano, Acting Director, New Technology Staff, Office of Policy and Program Development, FSIS, U.S. Department of Agriculture, Room 2932, South Agriculture Building, 1400 Independence Avenue, SW., Washington, DC 20250-3700; telephone (202) 205-0675, fax (202) 205-0080.

SUPPLEMENTARY INFORMATION: FSIS has a longstanding interest in technologies used in meat and poultry establishments and egg products plants. FSIS believes that the development and proper use of technology can contribute significantly to improving the safety of the food supply, especially with regard to reducing the threat posed by pathogenic microorganisms.

On February 11, 2003, FSIS published a notice in the Federal Register titled “FSIS Procedures for Notification of New Technology” (68 FR 6873). This notice established new, flexible procedures to actively encourage the development and use of new technologies in meat and poultry establishments and egg products plants.

Six months later, on August 12, 2003, Dr. Elsa Murano, Under Secretary for Food Safety, United States Department of Agriculture, announced the formation of the New Technology Staff (NTS). Located within FSIS, the NTS is charged with reviewing new technologies that companies intend to employ in the processing of meat, poultry, and egg products to ensure that the use of these technologies is consistent with Agency regulations, and that the technologies will not adversely affect product safety, inspection procedures, or the safety of FSIS inspectors.

On February 19, 2004, FSIS posted on the FSIS website at http://www.fsis.usda.gov/oppde/op/technology/guidance.htm document titled “Guidance Procedures for Notification and Protocol Submission of New Technology.” This guidance document is intended to assist establishments in determining whether they need to notify FSIS of new technologies that they propose to use in meat and poultry establishments and egg products plants, and to provide guidance on when to submit protocols for in-plant testing of new technologies. These guidelines replaced the procedures specified in FSIS's February 11, 2003, Federal Register notice.

FSIS defines “new technology” as new, or new applications of, equipment, substances, methods, processes, or procedures affecting the slaughter of livestock and poultry or processing of meat, poultry, or egg products. Steam vacuums, steam pasteurization, and antimicrobials are all examples of advances in food safety technology that have occurred in recent years. New technologies have resulted in significant improvements in the safety of meat and poultry products in recent years.

Because of its desire to share information and to encourage small and very small plants to utilize new technologies, FSIS is considering posting on its Web site information on new technologies that are the subject of notifications or protocols that the Agency has received. The summaries would provide brief descriptions of the new technology notifications or protocols from industry. The summaries would include the submitter's name, a brief description of the new technology, and the status of the submission.

There are 5 status categories: (1) Pending (the notification is under review), (2) Objection Letter Issued (an aspect of the technology requires study), (3) Notification Information Inadequate (the notification does not include adequate information), (4) No Objection Letter Issued (the Agency has no objection to use of the new technology), and (5) Protocol Approved for In-plant Trial (the submitter will be studying an aspect of the use of the technology). The Agency intends to indicate the status of each pending submission.

The following are examples of new technologies and how they may appear on the Web site:

Company name | Summary of the notification/protocol | Status
XYZ | Direct application of a biological agent as an antimicrobial in processing of poultry | No Objection Letter Issued.
YZX | Application of a chemical agent as an antimicrobial processing aid on raw beef carcasses | Pending.
ZXY | Application of new substance as an antimicrobial food additive on fully cooked product | Notification Information Inadequate.

The Agency recognizes, however, that a new technology notification or protocol may contain proprietary information. Therefore, the Agency requests comments on what information on new technologies it should make publicly available and on ways to protect proprietary information. For example, FSIS requests comments on the possibility that, if a submitter is concerned about the disclosure of proprietary information or a trade secret contained in the notification or protocol, the submitter could prepare and submit to FSIS both a confidential business information (CBI) version of the document and a public version. The CBI version would specify the information that the submitter considers to be proprietary or trade secret. If none of the information in the submission is proprietary or trade secret, and the submitter has no concerns about disclosing it, then only a public version of the document would need to be submitted to FSIS.

FSIS is requesting comments on the information that it intends to post on its website regarding the submissions of new technologies. Specifically, the Agency is seeking comments on the value of this information and on the costs and other detrimental effects to a company if this information is made publicly available. FSIS will not begin to regularly post information about new notifications and protocols until after the comment period has ended, and it has evaluated and responded to all comments received.

Additional Public Notification

Public awareness of all segments of rulemaking and policy development is important. Consequently, in an effort to ensure that the public and in particular minorities, women, and persons with disabilities, are aware of this notice, FSIS will announce it on-line through the FSIS web page located at http://www.fsis.usda.gov.

The Regulations.gov website is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The website is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

Done at Washington, DC, on June 15, 2004.
Barbara Masters,
Acting Administrator.

[FR Doc. 04-13863 Filed 6-17-04; 8:45 am]

BILLING CODE 3410-DM-P